DEPARTMENT OF STATE

[Public Notice 4747]

Discontinuation of Reissuance of Certain Nonimmigrant Visas in the United States

This public notice announces the discontinuation of our domestic visa reissuance service for certain nonimmigrant visas in the United States. Nonimmigrant visas issued under section 101(a)(15) C, E, H, I, L, O and P of the Immigration and Nationality Act will be affected by this suspension. We will accept no new applications from applicants seeking to renew C, E, H, I, L, O or P visas after July 16, 2004. To be processed, applications must be received by our application acceptance facility in St. Louis by July 16, 2004. Any application received after this date will be returned, using the sender's required self-addressed, stamped envelope or pre-paid courier airbill. Please note that we ceased processing applications for reissuance of A-3, G-5 and NATO-7 visas in the United States in September 2002. We will continue to receive applications for reissuance of qualifying diplomatic and official visas in Washington, DC in (classifications A-1, A-2, G-1, G-2, G-3, G-4, NATO-1, NATO-2, NATO-3, NATO-4, NATO-5 and NATO-6).

22 CFR 41.111(b) authorizes the Deputy Assistant Secretary for Visa Services or any other person he or she designates to reissue nonimmigrant visas, in their discretion. The original purpose of this authority was to provide nonimmigrant services to foreign government officials and to international organization employees. Over time, the authority was extended to include reissuances in the C, E, H, I, L, O and P visa classifications. We recognize that the domestic reissuance of business-related visas to applicants in the United States has been a convenience to the international business community. However, we are discontinuing the reissuance of visas in these categories because of increased interview requirements and the requirement of Section 303 of the Enhanced Border Security and Visa Entry Reform Act (Pub. L. 107-173, 116 Stat. 543) that U.S. visas issued after October 26, 2004, include biometric identifiers. It is not feasible for the Department to collect the biometric identifiers in the United States.

In order to mitigate the inconvenience to applicants, we will direct all visa adjudicating posts to accommodate on a priority basis applicants who would have benefited from our visa reissuance services. Visa interview appointments may be made for some posts through Internet sites or by telephone. Additional information regarding posts and visa interview appointment systems may be found at http://usembassy.state.gov. We encourage all applicants to apply in their home countries. Our visa adjudicating posts in Mexico and Canada have some capacity to accept nonimmigrant visa applications from stateside applicants. In all cases, applicants should obtain an interview appointment before traveling.

Dated: June 10, 2004.
Maura Harty,
Assistant Secretary for Consular Affairs, Department of State.

[FR Doc. 04-14245 Filed 6-22-04; 8:45 am]

BILLING CODE 4710-06-P